DEPARTMENT OF THE INTERIOR

Bureau of Indian Affairs

Renewal of Agency Information Collection for Tribal Energy Resource Agreements; Comment Request

AGENCY: Bureau of Indian Affairs, Interior.

ACTION: Notice of submission to the Office of Management and Budget.

SUMMARY: As required by the Paperwork Reduction Act, the Office of Indian Energy and Economic Development (IEED), in the Office of the Assistant Secretary—Indian Affairs, is submitting the information collection titled “Tribal Energy Resource Agreements (TERAs)” to the Office of Management and Budget (OMB) for renewal. The information collection is currently authorized by OMB Control Number 1076-0167, which expires March 31, 2010. The information collection requires Indian tribes interested in entering into a TERA or who already have a TERA to provide certain information, including information as part of the application for, and implementation, reassumption, and rescission of the TERA.

DATES: Interested persons are invited to submit comments on or before April 30, 2010.

ADDRESSES: You may submit comments on the information collection to the Desk Officer for Department of the Interior at the Office of Management and Budget, by facsimile to (202) 395-5806 or you may send an e-mail to: OIRA_DOCKET@omb.eop.gov. Please send a copy of your comments to Darryl Francois, Department of the Interior, Office of Indian Energy and Economic Development, Room 20—South Interior Building, 1951 Constitution Avenue, NW., Washington, DC 20245, fax (202) 208-4564; e-mail: Darryl.Francois@bia.gov.

FOR FURTHER INFORMATION CONTACT: Darryl Francois, Department of the Interior, Office of Indian Energy and Economic Development, Room 20—South Interior Building, 1951 Constitution Avenue, NW., Washington, DC 20245, fax (202) 208-4564; e-mail: Darryl.Francois@bia.gov, telephone (202) 219-0740.

SUPPLEMENTARY INFORMATION:

I. Abstract

The Energy Policy Act of 2005 (Pub. L. 109-58) authorizes the Secretary to approve individual TERAs. The intent of these agreements is to promote tribal oversight and management of energy and mineral resource development on tribal lands and further the goal of Indian self-determination. A TERA offers a tribe an alternative for developing energy-related business agreements and awarding leases and granting rights-of-way for energy facilities without having to obtain further approval from the Secretary.

This information collection conducted under TERA regulations at 25 CFR part 224 will allow IEED to determine the capacity of tribes to manage the development of energy resources on tribal lands. Information collected:

• Enables IEED to engage in a consultation process with tribes that is designed to foster optimal pre-planning of development proposals and speed up the review and approval process for TERA agreements;

• Provides wide public notice and opportunity for review of TERA agreements by the public, industry, and government agencies;

• Ensures that the public has an avenue for review of the performance of tribes in implementing a TERA;

• Creates a process for preventing damage to sensitive resources as well as ensuring that the public has fully communicated with the tribe in the petition process;

• Ensures that a tribe is fully aware of any attempt by the Department of the Interior to resume management authority over energy resources on tribal lands; and

• Ensures that the tribal government fully endorses any relinquishment of a TERA.

II. Request for Comments

IEED requests that you send your comments on this collection to the location listed in the ADDRESSES section. Your comments should address: (a) The necessity of the information collection for the proper performance of the agencies, including whether the information will have practical utility; (b) the accuracy of our estimate of the burden (hours and cost) of the collection of information, including the validity of the methodology and assumptions used; (c) ways we could enhance the quality, utility and clarity of the information to be collected; and (d) ways we could minimize the burden of the collection of the information on the respondents, such as through the use of automated collection techniques or other forms of information technology.

Please note that an agency may not sponsor or conduct, and an individual need not respond to, a collection of information unless it has a valid OMB Control Number. Response to the information collection is required to obtain a benefit.

It is our policy to make all comments available to the public for review at the following location, during the hours of 9 a.m.-5 p.m., Eastern Daylight Savings Time, Monday through Friday except for legal holidays: Department of the Interior, Office of Indian Energy and Economic Development, Room 20—South Interior Building, 1951 Constitution Avenue, NW., Washington, DC 20245. Before including your address, phone number, e-mail address or other personally identifiable information, be advised that your entire comment—including your personally identifiable information—may be made public at any time. While you may request that we withhold your personally identifiable information, we cannot guarantee that we will be able to do so.

OMB has up to 60 days to make a decision on the submission for renewal, but may make the decision after 30 days. Therefore, to receive the best consideration of your comments, you should submit them closer to 30 days than 60 days.

III. Data

OMB Control Number: 1076-0167.

Title: Tribal Energy Resource Agreements, 25 CFR Part 224.

Brief Description of Collection: Submission of this information is required for Indian tribes to apply for, implement, reassume, or rescind a TERA that has been entered into in accordance with the Energy Policy Act of 2005 and 25 CFR part 224. This collection also requires the tribe to notify the public of certain actions. Response is required to obtain a benefit.

Type of Review: Extension without change of a currently approved collection.

Respondents: Indian tribes.

Number of Respondents: 14 (4 applicant tribes and 10 tribes with a TERA).

Frequency of Response: On occasion.

Total Number of Responses: 34.

Estimated Time per Response: Ranges from 32 hours to 1,080 hours.

Estimated Total Annual Burden: 10,752 hours.

Estimated Nonhour Cost Burden: $48,200.

Alvin Foster,
Acting Chief Information Officer—Indian Affairs.

[FR Doc. 2010-7172 Filed 3-30-10; 8:45 am]

BILLING CODE 4310-4J-P